DEPARTMENT OF COMMERCE

National Oceanic and Atmospheric Administration

[Docket No. 990125030-2149-03]

RIN 0648-ZA56

Sea Grant National Strategic Investments in Aquatic Nuisance Species, Oyster Disease, and Gulf of Mexico Oyster Industry: Request for Proposals for FY 2003

AGENCY: National Sea Grant College Program, National Oceanic and Atmospheric Administration, Department of Commerce.

ACTION: Notice of request for proposals.

SUMMARY: The purpose of this notice is to advise the public that the National Sea Grant College Program (Sea Grant) is entertaining preliminary proposals and subsequently full proposals for National Strategic Investments in the following three programs:

(1) The Aquatic Nuisance Species Program, which seeks to fund research and outreach projects for the prevention and control of introduction and spread of aquatic nuisance species.

(2) The Oyster Disease Program, which seeks to fund innovative research that provides technology and management strategies to combat oyster disease and bring about the restoration of oysters and the oyster industry in U.S. Coastal areas.

(3) The Gulf of Mexico Oyster Industry Program, which is a long term, research-based program aimed at assisting the oyster industry in states adjoining the Gulf of Mexico to achieve full economic recovery and sustainable oyster production.

To support projects in the above three programs, Sea Grant expects to provide a total of about $5,600,000, $4,000,000, and $2,000,000 respectively, over a two-year period (FY 2003 and FY 2004). Matching funds equal to a minimum of 50% of the Federal request must be provided. Successful projects, which will have a maximum duration of two years, will be selected through national competitions.

DATES: Preliminary proposals must be received by 5 p.m. (local time) on September 17, 2002. After evaluation at the National Sea Grant Office (NSGO), some proposers will be encouraged to prepare full proposals, which must be received by 5 p.m. (local time) on December 3, 2002. (See ADDRESSES for where to submit preliminary and full proposals.) Note that applications arriving after these deadlines will be accepted for review only if the applicant can document that the application was provided to a delivery service that guaranteed delivery to the address listed below (See ADDRESSES) prior to the specified closing date and time; in any event, applications received later than two business days following the closing date will not be accepted. Facsimile transmissions and electronic mail submission of proposals will not be accepted. It is anticipated that funding decisions will be made by March 2003, and that successful applicants will be able to initiate projects approximately June 1, 2003.

ADDRESSES: Preliminary proposals and full proposals originating in Sea Grant states must be submitted to the state Sea Grant Program. The following are Sea Grant states: Alabama; Alaska; California; Connecticut; Delaware; Florida; Georgia; Hawaii; Illinois, Indiana, Louisiana; Maine; Maryland; Massachusetts; Michigan; Minnesota; Mississippi; New York; New Hampshire; New Jersey; North Carolina; Ohio; Oregon; Pennsylvania; Puerto Rico; Rhode Island; South Carolina; Texas; Vermont; Virginia; Washington; Wisconsin. Preliminary proposals and full proposals originating elsewhere may be submitted either to the nearest Sea Grant Program or directly to the NSGO. The addresses of the Sea Grant College Program directors may be found on Sea Grant's home page (http://www.nsgo.seagrant.org/SGDirectors.html) or may also be obtained by contacting the NSGO. Preliminary proposals and full proposals submitted to the NSGO should be addressed to: National Sea Grant Office, R/SG, Attn: Mrs. Geraldine Taylor, Proposal Processing, Room 11732, NOAA, 1315 East-West Highway, Silver Spring, MD 20910 (telephone number for express mail applications is 301-713-2445).

FOR FURTHER INFORMATION CONTACT: Dorn Carlson (Program Director for Aquatic Nuisance Species), or Dr. James McVey (Program Director for Oyster Programs) at the National Sea Grant Office, R/SG, NOAA, 1315 East-West Highway, Silver Spring, MD 20910. Tel. (301) 713-2435; e-mail: Dorn.Carlson@noaa.gov; Jim.McVey@noaa.gov.

SUPPLEMENTARY INFORMATION:

I. Program Authority

Authority: 33 U.S.C. 1121-1131.

(Catalog of Federal Domestic Assistance Number: 11.417, Sea Grant Support).

II. Description of Programs

A. Aquatic Nuisance Species Research and Outreach Program

Background

Invasions of nonindigenous species are increasing in frequency and causing substantial damage to the Nation's environment and economy. Although the most prominent of these has been the zebra mussel, many other nonindigenous species have been introduced and have truly become a nationwide problem that threatens many aquatic ecosystems. While some intentional introductions may have had beneficial effects, there are many other nonindigenous species already present in U.S. waters, or with the potential to invade, that may cause significant damage to coastal resources and the economies that depend upon them. In response, the Nonindigenous Aquatic Nuisance Prevention and Control Act of 1990 (16 U.S.C. 4701 et seq.) established a framework for the Nation to address the problems of aquatic nuisance species (ANS) invasions of coastal and Great Lakes ecosystems.

Although problems such as the zebra mussel and the sea lamprey within the Great Lakes have received the most attention, invasions of nonindigenous species in coastal marine environments are an increasing and serious threat. The National Invasive Species Act of 1996 (16 U.S.C. 4711-4714) recognized this by calling for Federal funding to support aquatic nuisance species prevention and control along the Nation's marine coast.

Funding Priorities and Availability

The National Sea Grant College Program encourages proposals for research and outreach to prevent and control ANS invasions that address one or more of the following program areas:

(1) Biology and Life History: Basic biological research into population dynamics, genetics, physiology, behavior, and parasites and diseases of nonindigenous species with the potential to lead to the development of ecologically safe, effective, and inexpensive control. Research on the ecological and environmental tolerances of nonindigenous species with the potential for prediction of eventual geographic and ecological impacts.

(2) Effects on Ecosystems: Research on the impacts of nonindigenous species at each stage of their life history with the potential for helping natural resource managers determine how to minimize the impacts on established biota and their habitats.

(3) Socioeconomic Analysis: Costs and Benefits: Research on the potential impacts of nonindigenous species on human health in terms of spread of disease, concentration of pollutants, and contamination or purification of drinking water sources. Economic impact on sport, commercial and tribal fisheries, the recreation and tourism industry, the shipping and navigation industry, and municipal and industrial water users. Use of research results to provide a scientific basis for developing sound policy and environmental law, and for public education and technology transfer.

(4) Control and Mitigation: Research into various types of control—engineering (redesigning water intakes, etc.), physical (scraping, filtering, etc.), chemical (biocides, antifoulants, etc.), biological (parasites, predators, etc.), and physicochemical (heat, salinity, pH, etc.)—to develop selective, effective controls that minimize adverse ecological/environmental impacts. Outreach activities that will transfer these technologies to the appropriate users.

(5) Preventing New Introductions: Research and outreach into identifying vectors of ANS introduction, developing cost-effective, realistic methods of prevention, and transferring the information to appropriate users. In particular, research to develop, or support the development of, workable and effective methods to reduce or eliminate nonindigenous species introductions by shipborne pathways such as ballast water or hull fouling, without imposing undue hardships on the shipping industry.

(6) Reducing the Spread of Established Populations: Research and outreach to identify mechanisms for further dispersal of individual established species that will lead to the development of safeguards and protocols to prevent and/or slow the spread of nonindigenous species to uninfested areas, and transfer of that information to appropriate users.

Potential investigators are encouraged to review the list of recent and currently funded Sea Grant projects related to Aquatic Nuisance Species that is available on Sea Grant's Aquatic Nuisance Species Web page (www.nsgo.seagrant.org/research/nonindigenous). In addition, regional priorities have been developed by some Regional Panels of the Aquatic Nuisance Species Task Force and in some State ANS Management Plans. Not all regions of the country have regional panels, however, and not all panels have published research and outreach priorities; and not all states have State ANS Management Plans, and not all State ANS Management Plans contain research and outreach priorities. Further information on Aquatic Nuisance Species Task Force Committees, Regional Panel sand State ANS Management Plans can be found at the Internet Web site, http://www.ANSTaskForce.gov/.

About $5,600,000 will be available from the National Sea Grant College Program to support these projects in FY 2003 and FY 2004, depending on the overall funding appropriation for the National Sea Grant College Program. Of this amount, about 70% of the funds will go to support reach projects and about 30% for outreach activities. Projects can be for a maximum of two years' duration.

Sea Grant funding will be limited to $150,000 per year. Each proposal must include additional non-Federal matching funds equivalent to at least 50% of the Federal funds requested; for example, a proposal requesting a total of $200,000 in Federal support for two years would have to include at least an additional $100,000 in matching funds.

B. The Oyster Disease Program

Background

The Oyster Disease Research Program has been in operation for nearly 10 years and has made significant accomplishments in the areas of disease diagnosis, immune system function of oysters, range and virulence of existing diseases, modeling and prediction of oyster diseases in the natural environment, oyster disease resistance through genetic selection and a variety of other technologies. Even though significant scientific information has been obtained through this work and we now have an oyster that has improved performance and survivability under field conditions; disease episodes can still be severe enough to prevent the culture and natural recovery of oysters. More research is clearly needed to improve the survivability of oysters in US coastal waters and to improve technology for disease management and control.

Primary consideration for funding will be given to proposals which address the specific priorities listed below. These priorities, originally determined at a national workshop in January, 1995 and further refined at the Oyster Disease Research Program session during the International Shellfish Restoration Conferences in 1996 and 2000, and at other programmatic and scientific reviews in 2001 and 2002, are not listed in any implied order of importance:

(1) Design, apply and evaluate disease management strategies and their effectiveness for enhanced natural and aquaculture production. There are many issues related to establishment of oyster sanctuaries, configuration of commercial oyster beds, oyster aquaculture, use of non-native oyster species, remote setting, use of natural seed, bottom cleaning before setting, cultch type, etc., which should be addressed as related to the impacts and management of disease. Activities that involve private sector, state restoration programs and extension/outreach in the implementation of research results and field trials using diagnostic methods, and other disease related technology and information for improved oyster disease management or oyster culture are appropriate under this priority.

(2) Parasite life cycles and the dynamics and mechanisms of transmission: investigations of selected aspects of the life cycles of oyster pathogens, especially MSX and Perkinsus, and the dynamics/mechanisms of disease transmission among hose organisms.

(3) Host-parasite interactions: investigations which determine how pathogens avoid host defense mechanisms, biochemically characterize Perkinsus strains, determine factors which confer virulence to Perkinsus strains, determine mechanisms of infection/entry into the host, or compare disease processes in oyster species are being sought.

(4) Mechanisms of disease resistance: continued emphasis is placed on studies concerning cellular/molecular mechanisms of disease infection and resistance in Crassostrea spp. and studies which determine the mechanisms of immune response in oysters. In addition, analysis of host defense factors, the development of molecular markers of disease and stress resistance, the development of immuno-stimulants, the application of chemo-therapeutics, and the identification of pathogen virulence and resistance mechanisms are needed; as are studies comparing resistance among diploid and polyploid oysters.

(5) Development and application of diagnostic methods for all oyster diseases: this program has already developed many diagnostic techniques for several disease organisms and new proposals will be expected to show a significant improvement over the techniques already developed.

(6) Environmental influences on disease and oyster mortality: proposals which address the influence of biotic and abiotic factors upon host-parasite interactions are high priority. Also included are studies of the effects of eutrophication and other stresses upon disease dynamics, basic physiological and adaptation processes in both hosts and parasites, the mechanisms of the summer kill phenomenon, relationships between disease progression and climate, and the eco-physiology of Perkinsus.

(7) Taxonomy, phylogeny and population studies of both hosts and parasites: emphasis continues on studies of variations in populations susceptibility, host resistance and pathogen virulence. Also needed are investigations of the genetic structure of both hosts and parasites.

(8) Development and application of selective breeding strategies: we are seeking studies which develop molecular/biochemical markers for breeding resistance into oysters, as well as genome analysis and gene transfer techniques related to disease resistance. Evaluation of non-native oyster species genomes with regard to disease resistance under aquaculture conditions will also be considered.

(9) Development and testing of geographic and mathematical models to improve understanding of disease dynamics: a basic model now exists and new work in this area must clearly state how additional investment will take us to an even better level of prediction or disease management.

About $4,000,000 is available from the National Sea Grant College Program to support research projects in FY 2003 and FY 2004, depending on the overall funding appropriation for the National Sea Grant College Program.

Sea Grant funding will be limited to $200,000 per year. Each proposal must include additional non-Federal matching funds equivalent to at least 50% of the Federal funds requested; for example, a proposal requesting a total of $200,000 in Federal support for two years would have to include at least an additional $100,000 in matching funds.

C. The Gulf of Mexico Oyster Industry Program

Background

The Gulf Oyster Industry Program was created as a result of information provided by Gulf oyster industry leaders, state resource managers, and academic researchers spanning the five-state Gulf region. Specific needs identified by these individuals were subsumed into 12 concise issue statements as a result of a workshop held in New Orleans, Louisiana in 1997 and reaffirmed in 2000. This list of research and extension needs and proposed responses was presented to a select Industry Advisory Panel at the Gulf Oyster Industry Program Workshop conducted in New Orleans, La., on February 28, 1998, and again in 2000 the group was asked to establish research priorities based on that framework. Through an ensuing discussion, the high-priorities were delineated as shown below:

(1) At-Risk Consumer Education and Evaluation: proposals that will develop, implement and/or evaluate a Vibrio vulnificus Education Program, including, but not limited to: at-risk consumer foundations and associations, pharmacies, alcohol treatment centers, wound infection issues, media relations, and public perceptions.

(2) Human Pathogenic Organisms: raw oysters have the potential to cause human illness due to the presence of naturally occurring opportunistic pathogens (e.g., Vibrio vulnificus), naturally occurring pathogens that become a concern only when present at elevated levels (e.g., Vibrio cholera or Vibrio parahaemolyticus), and pathogens which are related to contaminated growing areas (e.g., Norwalk and Norwalk-like viruses, Salmonella sp. and Shiqella). This potential has created a perception the consumption of raw oysters places a large number of people at risk of contracting illnesses from opportunistic bacteria, toxins, and viruses. This RFP also seeks proposals that will develop new means of treating shell stock to eliminate human pathogens, and, develop or investigate new technology, such as ionized water, for depurating oysters of human pathogens.

(3) Post-Harvest Treatment (PHT) Process Evaluation and Education: proposals that will develop and evaluate PHT demonstration projects, including, but not limited to, providing PHT product in demonstration projects to wholesalers & retailers, and, conducting economic analyses regarding the changes to current handling and processing practices.

(4) Consumer Attitudes and Preferences: the oyster industry and regulators lack knowledge concerning the attitudes, preferences, and other characteristics of potential oyster consumers. Learning about consumers' attitudes and preferences will help increase demand for new PHT and traditional oyster products. This RFP seeks proposals that will determine oyster consumer demographics, consumption patterns, attitudes and preferences, develop media-relations protocol for the oyster industry, conduct media-relations workshops for the Gulf oyster industry to improve communication skills, develop media-relations protocol or decision tree for researchers and state regulatory personnel, and, determine the characteristics of the market for Gulf oysters, including sales (region, size of establishment, average sales, etc.), distribution, and product forms. Investigators should be aware that any surveys must be approved under the Paperwork Reduction Act before they are carried out, a process that may delay the start of those projects by up to six months.

(5) Harmful Algal Blooms (HAB)Red Tide: HAB cause lengthy public health closures of shellfish growing waters, halting production for weeks and causing severe economic hardship in the impacted area. This RFP seeks proposals to develop rapid detection methods for toxic marine algae, especially G. breve, conduct HAB research advisory and outreach activities in the Gulf states, and conduct a workshops for state and Federal shellfish managers. sanitation personnel and researchers to include new monitoring, diagnostic, and management protocols for use in the reopening of shellfish growing waters closed by HAB.

(6) Economic and Legal Impacts of Regulatory Action: the regulation of molluscan shellfish is unique from all other foods. Regulatory action either by state of Federal public health agencies, and subsequent news media responses can have severe economic and legal impacts on the harvesting, processing and marketing of shellfish, such as Gulf oysters. This RFP seeks proposals that analyze the effects of inaccurate media reports on sales, the delisting of a processor or state from the Interstate Certified Shellfish Shippers List, the ramifications from product disparagement, and/or, the impact of the oyster and support industries on demand for labor and the coastal economies of the Gulf region.

(7) Coastal Restoration/Freshwater Diversion: coastal land loss, deterioration of estuarine habitat, and coastal restoration programs, e.g., freshwater diversions and sedimentation projects, and causing widespread dislocations and conflicts with established oyster-producing operations. This RFP seeks proposals that educate oyster men, public officials, and citizens regarding the economic and environmental role of the oyster industry and the economic costs of displacing and relocation oyster bedding operations, and/or, conduct demonstration projects for oyster farmers to show them the best strategy to relocate their oyster farms that are damaged by coastal restoration projects.

(8) Labor and Mechanization: the traditional labor base that supports oyster growing, harvesting, and processing is shrinking rapidly, with consequently declining production and increased costs. This RFP seeks proposals that investigate and develop cost-effective mechanized approaches to oyster harvesting and processing, including, but not limited to, developing new means to package and handle oyster shell stock and shucked oysters, including large re-usable, low-cost containerization of shell stock for vessels to trucks, handling equipment to move large containers of shell stock; and, cheaper containers for shucked oysters.

(9) Oyster Diseases: oyster diseases are having a major impact on Gulf Coast oyster stocks and for the most part this topic will be covered under the Oyster Disease topic in this solicitation. However, oyster disease research specific to the Gulf Coast will be considered in this solicitation.

(10) Genetics and Oyster Hatchery technology: these technologies are needed to develop cost-effective hatchery/nursery operations to augment wild oyster production with specialized strains or help create oyster aquaculture operations. This RFP seeks proposals that develop polyploid broodstock for the Gulf Coast, disease resistant transgenic oysters, and/or, address practical problems which may be common to oyster production in general, but especially acute in a farming situation, e.g., biofouling, predation, disease, etc.

About $2,000,000 is available from the National Sea Grant College Program to support research projects in FY 2003 and FY 2004, depending on the overall funding appropriation for the National Sea Grant College Program.

Sea Grant funding will be limited to $200,000 per year. Each proposal must include additional non-Federal matching funds equivalent to at least 50% of the Federal funds requested; for example, a proposal requesting a total of $200,000 in Federal support for two years would have to include at least an additional $10,000 in matching funds.

III. Eligibility

Eligible applicants are individuals, institutions of higher education, other nonprofits, commercial organizations, international organizations, state, local and Indian tribal governments. Directors of the State Sea Grant Programs are not eligible to compete for funds under this announcement.

IV. Evaluation Criteria

The evaluation criteria for proposals submitted for support under these three programs are:

A. Impact of Proposed Project (50%)

Significance of the problem addressed; impacts/benefits expected to the nation as a consequence of the project; degree to which the activity will advance the state of the science or discipline; potential for technology transfer to user groups such as industry and/or for enhanced economic, scientific, educational, or management value.

B. Project Design (50%)

Appropriateness of methodologies to be used; advanced synthesis of existing information; use or extension of state-of-the-art methods; qualifications of the investigators (education, training, and/or experience and record of achievement with previous funding); the degree to which multiple investigators, other Federal agencies, and potential users of the results of the proposed activity have been involved in planning the activity and/or will be involved in the execution of the activity, as appropriate; proposed project schedule (timeline).

V. Selection Procedures

Preliminary proposals will be reviewed at the NSGO by panels composed of government, industry, and academic experts. The panels will be asked to assess each preliminary proposal according to the evaluation criteria. The panels will make individual recommendations to the NSGO regarding which preliminary proposals may be suitable for further consideration. On the basis of the panels' recommendations, the Director of the NSGO will advise proposers whether or not the submission of full proposals is encouraged. Invitation to submit a full proposal does not constitute an indication that the proposal will be funded. Interested parties who submitted preliminary proposals in accordance with the procedure described in this notice may, if they wish, submit full proposals even if the Director of the NSGO does not encourage full proposal submission.

Individual state Sea Grant Programs receiving full proposals will conduct the mail peer review of the proposed projects in accordance with the Evaluation Criteria listed above. Complete proposals (12 copies) and copies of the mail reviews will then be sent by the state Sea Grant programs to the National Sea Grant Office. The NSGO will conduct mail reviews for proposals submitted directly to it by applicants not in Sea Grant states.

Each proposal will be scored in accordance with the assigned weights of the above evaluation criteria by an independent peer review panel consisting of government, academic, and industry experts. These panel members will provide individual evaluations on each proposal; thus there will be no consensus advice. Their recommendations and evaluations will be considered by the NSGO in the final selection. Only those proposals awarded an average score of 50% or greater by the panel will be eligible for funding. For those proposals, the NSGO will: (a) Ascertain which proposals best meet the program priorities (stated in Section II), and do not substantially duplicate other projects that are currently funded or are approved for funding by NOAA and other Federal agencies, hence, awards may not necessarily be made to the highest-scored proposals; (b) select the proposals to be funded; (c) determine which components of the selected projects will be funded; (d) determine the total duration of funding for each proposal; and (e) determine the amount of funds available for each proposal. Investigators may be asked to modify objectives, work plans, or budgets prior to final approval of the award. Subsequent grant administration procedures will be in accordance with current NOAA grants procedures. Note that only one award will normally be made for each project; if multiple institutions are involved, they should be handled through subawards and contracts. A summary statement of the scientific review by the peer panel will be provided to each applicant.

VI. Instructions for Application

A. General Requirements

The ideal project attacks a well-defined problem that will be or is a significant societal, research, or technology development and transfer issue. The organization or people whose task it will be to make related decisions or who will be able to make specific use of project results will have been identified and contacted by the Principal Investigator(s). The proposal demonstrates an understanding of what constitutes necessary and sufficient information for responsible decision-making or for applied use, and shows how that information will be provided by the proposed activity or in concert with other planned activities.

Proposals are expected to have: a rigorous, hypothesis-based scientific work plan, or a well-defined, logical approach to address an engineering problem or outreach opportunity; a strong rationale for the proposed work; and a clear relationship with the ultimate users of the information. Projects undertaken jointly with industry, business, multiple investigators, or other agencies with interest in the problem are encouraged. Their contribution to the project may be in the form of collaboration, in-kind services, or dollar support. Projects that are solely monitoring efforts are not appropriate for funding. Proposals that incorporate educational, outreach, socioeconomic, and management components and applications will be viewed favorably.

To prevent the expenditure of effort that may not be successful, proposers must first submit preliminary proposals; following review by the NSGO, these proposers may subsequently submit full proposals. Full proposals submitted by applicants who do not first submit a preliminary proposal will be returned without review. Applications may be made for Federal funds to support up to two-thirds of the total budget. Allocation of matching funds, equal to at least one-third of the total budget (in other words, at least 50% of the Federal request), must be specified. No more than $150,000 of Federal Sea Grant funds per year will be awarded to an Aquatic Nuisance Species project. No more than $200,000 of Federal Sea Grant funds per year will be awarded to an Oyster Disease or Gulf of Mexico Oyster Industry project. The maximum duration for funded projects will be two years. Awards may be made either as grants or, if there is substantial involvement by one or more Federal agencies, as cooperative agreements. Examples of substantial involvement may include collaboration in research, participation in selection of key personnel, or approval of key stages in the project before subsequent steps are undertaken. Investigators are encouraged to review the budgeting and grant-making policies of their state's Sea Grant Program, if any, before finalizing their proposal submissions.

B. How To Submit

Interested parties must submit applications (preliminary and full proposals) as follows. Applications originating in one of the Sea Grant states must be submitted to the state's Sea Grant College Program, which will submit the final grant application to the NSGO. Applications originating in a state with no Sea Grant College Program may be submitted to the nearest state Sea Grant College Program which will then submit the final grant application to the NSGO, or the application may be submitted directly to the NSGO. Twenty (20) copies of preliminary proposals and proposals must be submitted to the state Sea Grant Programs or to the NSGO according to the schedule outlined below (See “Timetable”). The addresses of the Sea Grant College Program directors may be found on Sea Grant's World Wide Web home page (http://www.nsgo.seagrant.org/SGDirectors.html) or may also be obtained by contacting Mr. Joseph Brown at the NSGO (phone: 301-713-2438 x135 or e-mail: joe.brown@noaa.gov). Preproposals and proposals sent to the NSGO should be addressed to: National Sea Grant Office, R/SG, Attn: Ms. Geri Taylor, Proposal Processing, NOAA, 1315 East-West Highway, Silver Spring, MD 20910 (phone 301-713-2435 for express mail applications). Facsimile transmissions and electronic mail submission of applications will not be accepted.

C. Timetable

September 17, 2002, 5 p.m. (local time)—Preliminary proposals (20 copies) must be received by state Sea Grant Program, or by NSGO if application is being submitted by an institution in a non-Sea Grant state.

September 24, 2002, 5 p.m. EDT—Preliminary proposals (18 copies) due at NSGO from state Sea Grant Programs.

December 3, 2002, 5 p.m. (local time)—Full proposals (20 copies) must be received by state Sea Grant Program, or by NSGO if application is being submitted by an institution in a non-Sea Grant state.

December 10, 2002, 5 p.m. EST—Full proposals (12 copies) due at NSGO from state Sea Grant Programs.

February 15, 2003, 5 p.m. EST—State Sea Grant Programs forward reviews received to NSGO.

June 1, 2003 (approximate)—Funds awarded to selected recipients; projects begin.

Note that applications arriving after the closing dates given above will be accepted for review only if the applicant can document that the application was provided to a delivery service that guaranteed delivery to the appropriate address (see ADDRESSES) prior to the specified closing date and time; in any event, applications received by the NSGO or the state Sea Grant programs later than two business days following the closing date will not be accepted.

D. What To Submit

Preliminary Proposal Requirements

Preliminary proposals must be printed on metric A4 (210 mm x 297 mm) or 8.5″ x 11″ paper with at least a 10-point font. The following information should be included:

1. Signed Title Page: The title page must be signed by the Principal Investigator and should clearly identify the program to which the proposal is submitted by starting the project title with “Sea Grant Aquatic Nuisance Species Research Program,” “Sea Grant Aquatic Nuisance Species Outreach Program,” “Sea Grant Oyster Disease Program” or “Sea Grant Gulf of Mexico Oyster Industry Program” (as appropriate). Principal Investigators and collaborators should be identified by affiliation and contact information. The total project costs (Federal funds being requested and matching funds) should be listed as well as the source of the matching funds. Preliminary proposals must include matching funds equivalent to at least 50% of the Federal funds requested.

2. A concise (2-page limit) description of the project, its experimental design, its expected output or products, the anticipated users of the products, and its anticipated impact. Proposers should consult the Evaluation Criteria for additional guidance in preparing the preliminary proposals.

3. Resumes (1-page limit) of the Principal Investigators.

4. Proposers are encouraged (but not required) to include a separate page suggesting reviewers that the proposers believe are especially well-qualified to review the proposal. Proposers may also designate persons they would prefer not review the proposal, indicating why. These suggestions will be considered during the review process.

No institutional signatures or Federal government forms are needed while submitting preliminary proposals.

Full Proposal Requirements

All pages must be printed on metric A4 (210 mm x 297 mm) or 8.5″ x 11″ paper with at least a 10-point font. Each full proposal should include the items listed below. Brevity will assist reviewers and program staff in dealing effectively with proposals. Therefore, the Project Description may not exceed 15 pages. Tables and visual materials, including charts, graphs, maps, photographs and other pictorial presentations are included in the 15-page limitation; literature citations and letters of support are not included in the 15-page limitation. No appendices are permitted. Applicants may obtain all required application forms through the World Wide Web at http://www.nsgo.seagrant.org/research/index.html and http://www.ofa.noaa.gov/-grants/pdf/, from the state Sea Grant Programs, or from Mr. Joseph Brown at the National Sea Grant Office (phone: 301-713-2438 x135 or e-mail: joe.brown@noaa.gov).

1. Signed Title Page: The title page must be signed by the Principal Investigator and should clearly identify the program to which the proposal is submitted by starting the project title with “Sea Grant Aquatic Nuisance Species Research Program,” “Sea Grant Aquatic Nuisance Species Outreach Program,” “Sea Grant Oyster Disease Program” or “Sea Grant Gulf of Mexico Oyster Industry Program” (as appropriate). The total amount of Federal and matching funds being requested for each project year must be listed.

2. Project Summary: The project summary should concisely describe the activity being proposed and the impact that would result from its successful completion, in a form suitable for publication. Applicants are encouraged to use the Sea Grant Project Summary Form 90-2, but may use their own form as long as it provides the same information as the Sea Grant form. The project summary should include: A. Title: Use the exact title as it appears in the rest of the application. B. Investigators: List the names and affiliations of each investigator who will significantly contribute to the project, starting with the Principal Investigator. For graduate fellowships, the faculty advisor or the state Sea Grant Director may be used. C. Funding request for each year of the project, including matching funds if appropriate. D. Project Period: Start and completion dates. Proposals should request a start date of June 1, 2003. E. Project Abstract: This should include the rationale for the proposed activity, the scientific or technical objectives and/or hypotheses to be tested, and a brief summary of the work to be completed.

3. Project Description (15-page limit):

a. Introduction/Background/Justification: Subjects that the investigator(s) may wish to include in this section are: (1) Previous fundamental research, including relevant work funded by Sea Grant, and a description of what additional work is needed to enhance the value of that work; and (ii) impacts of the study to the particular discipline or subject area.

b. Research or Technical Plan: (i) Objectives to be achieved, hypotheses to be tested; (ii) Experimental design and statistical analysis to be used; (iii) Plan of work, detailed methodology, collaboration with industry or other user groups (if appropriate), and a timetable for project activities; and (iv) Role of project personnel.

c. Output/Anticipated Economic Benefits: These may be measured in many ways. To the extent possible, proposers are urged to devise appropriate metrics to quantify the benefits. Examples of metrics may include patents or licenses; commercializable new products (e.g. products or equipment used to remove aquatic nuisance species from ballast water or to harvest and process oyster products), oyster disease diagnostics and control technologies, improved oyster survivals, creation of successful oyster restoration programs, process improvements, corporate investments in oyster technologies or academic research efforts; private sector job opportunities; number of end users or persons affected by the projects long-term goals, etc.

d. Coordination with other Program Elements: Describe any coordination with other agency programs or ongoing research efforts. Describe any other proposals that are essential to the success of this proposal.

e. References and Literature Citations: Should be included but will not be counted in the 15-page project description limit.

4. Budget and Budget Justification: There should be a separate budget for each year and one cumulative budget for the entire project. Applicants are encouraged to use the Sea Grant Budget Form 90-4, but may also use their own form as long as it provides the same information as the Sea Grant form. Subawards and contracts should have a separate budget page. Matching funds must be indicated. The budget should include a separate budget justification page that itemizes all budget items in sufficient detail to enable reviewers to evaluate the appropriateness of the funding requested, and indicates the source for all matching funds. Please pay special attention to any travel, supply or equipment budgets and provide details. Note that only one award will normally be made for each project; if multiple institutions are involved, they should be handled through subawards and contracts with all necessary indirects costs included in the original budget submission.

Investigators are strongly advised to consult with and follow any budgeting guidelines available through their state's Sea Grant Program. Local institutional policies may affect how a project budget should be submitted, and what may be included (i.e., application of indirect costs, availability of fellowships, and other restrictions or cost-saving opportunities). Proposals generated from Sea Grant states must follow local guidelines, if any. In no case will proposals be funded at a level which exceeds the funding limitations as set in this announcement.

5. Current and Pending Support: Applicants must provide information on all current and pending Federal support for ongoing projects and proposals, including subsequent funding in the case of continuing grants. The relationship between the proposed project and these other projects should be described, and the number of person-months per year to be devoted to the projects must be stated.

6. Vitae (2 pages maximum per investigator).

7. Research Protocol (if appropriate): Research activities funded under this program must not accelerate the spread of nonindigenous species to non-infested watersheds. Therefore, investigators studying any nonindigenous species whose laboratories or research study sites are in currently uninfested areas must develop protocols for handling the particular nonindigenous species that will prevent its release into the environment. As part of the plan of action, the investigator must detail these protocols and explain how the proposed work will be accomplished while safeguarding the environment. The research protocol will be reviewed by an interagency committee created under the Nonindigenous Aquatic Nuisance Prevention and Control Act of 1990 (16 U.S.C. 4701 et seq.). Guidelines for developing suitable protocols are available through the internet Web site http://www.ANST askForce.gov/resprot.htm#, or from Dorn Carlson (listed in FOR FURTHER INFORMATION CONTACT, above). Proposals lacking a suitable protocol will not be eligible for funding.

8. Letters of commitment and letter of support from any industry or other partner, if appropriate.

VII. Other Requirements for Successful Applicants

The Department of Commerce Pre-Award Notification of Requirements for Grants and Cooperative Agreements contained in the Federal Register Notice of October 1, 2001 (66 FR 49917) are applicable to this solicitation. However, please note that the Department will not implement the requirements of Executive Order 13202 (66 FR 49921), pursuant to guidance issued by the Office of Management and Budget in light of a court opinion which found that the Executive Order was not legally authorized. See Building and Construction Trades Department v. Allbauth, 172 F. Supp. 2d 138 (D.D.C. 2001). This decision is currently on appeal. When the case has been finally resolved, the Department will provide further information on implementation of Executive Order 13202. The Federal Register notice also lists the forms required to complete the standard Department of Commerce grant application package, but those forms will be required only for those applicants who have been recommended for funding. For projects selected in Sea Grant states, the Sea Grant Program will prepare and submit these forms on behalf of all projects selected from that state.

Unsuccessful applications will be held in the National Sea Grant Office for a period of five (5) years and then destroyed. Applications under this program are not subject to Executive Order 12372, “Intergovernmental Review of Federal Programs.”

Pursuant to Executive Orders 12876, 12900, and 13021, the Department of Commerce, National Oceanic and Atmospheric Administration (DOC/NOAA) is strongly committed to broadening the participation of Historically Black Colleges and Universities (HBCU), Hispanic Serving Institutions (HSI), and Tribal Colleges and Universities (TCU) in its educational and research programs. The DOC/NOAA vision, mission, and goals are to achieve full participation by Minority Serving Institutions (MSI) in order to advance the development of human potential, to strengthen the nation's capacity to provide high-quality education, and to increase opportunities for MSIs to participate in and benefit from Federal Financial Assistance programs. DOC/NOAA encourages all applicants to include meaningful participation of MSIs. Institutions eligible to be considered MSIs are listed at the following Internet Web site: http://www.ed.gov/offices/OCR/minorityinst.html.

This notice contains collection-of-information requirements subject to the Paperwork Reduction Act. The use of NOAA Forms 90-2 and 90-4, or equivalents, has been approved by OMB under the control number 0648-0362. Public reporting burden for these collections of information is estimated to average 20 minutes for a NOAA Form 90-2 and 15 minutes for a NOAA Form 90-4. These response times include the time for reviewing instructions, searching existing data sources, gathering and maintaining the data needed, and completing and reviewing the collection of information. Send comments regarding this burden estimate, or any other aspect of this data collection, including suggestions for reducing the burden, to the National Sea Grant Office (see the FOR FURTHER INFORMATION CONTACT section).

Notwithstanding any other provision of law, no person is required to respond to, nor shall any person be subject to a penalty for failure to comply with, a collection of information subject to the Paperwork Reduction Act, unless that collection displays a currently valid OMB control number.

VIII. Classification

It has been determined that this notice is not significant for purposes of Executive Order 12866.

It has been determined that this notice does not contain policies with Federalism implications as that term is defined in Executive Order 13132.

Because notice and comment are not required under 5 U.S.C. 553, or any other law, for notices relating to public property, loans, grants, benefits or contracts (5 U.S.C. 553(a)), a Regulatory Flexibility Analysis is not required and has not been prepared for this notice, 5 U.S.C. 601 et seq.

Dated: July 5, 2002.
Louisa Koch,
Deputy Assistant Administrator, Office of Oceanic and Atmospheric Research, National Oceanic and Atmospheric Administration.

[FR Doc. 02-20221 Filed 8-8-02; 8:45 am]

BILLING CODE 3510-KA-M